DEPARTMENT OF THE INTERIOR

National Park Service

[NPS-WASO-NAGPRA-NPS0031481; PPWOCRADN0-PCU00RP14.R50000]

Notice of Inventory Completion: Kansas State Historical Society, Topeka, KS

AGENCY: National Park Service, Interior.

ACTION: Notice.

SUMMARY: The Kansas State Historical Society has completed an inventory of human remains in consultation with the appropriate Indian Tribes or Native Hawaiian organizations and has determined that there is a cultural affiliation between the human remains and present-day Indian Tribes or Native Hawaiian organizations. Lineal descendants or representatives of any Indian Tribe or Native Hawaiian organization not identified in this notice that wish to request transfer of control of these human remains should submit a written request to the Kansas State Historical Society. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Kansas State Historical Society at the address in this notice by April 1, 2021.

ADDRESSES: Robert J. Hoard, Kansas State Historical Society, 6425 SW 6th Avenue, Topeka, KS 66615-1099, telephone (785) 272-8681 Ext. 269, email robert.hoard@ks.gov.

SUPPLEMENTARY INFORMATION: Notice is here given in accordance with the Native American Graves Protection and Repatriation Act (NAGPRA), 25 U.S.C. 3003, of the completion of an inventory of human remains under the control of the Kansas State Historical Society, Topeka, KS. The human remains were removed from St. Francis, Cheyenne County, KS.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Kansas State Historical Society professional staff in consultation with representatives of the Cheyenne and Arapaho Tribes, Oklahoma [previously listed as Cheyenne-Arapaho Tribes of Oklahoma]; Kaw Nation, Oklahoma; Northern Cheyenne Tribe of the Northern Cheyenne Indian Reservation, Montana; and The Osage Nation [previously listed as Osage Tribe] (hereafter referred to as “The Consulted Tribes”).

History and Description of the Remains

On June 30, 2014, human remains representing, at minimum, one individual were removed from 114 South Scott Street, St. Francis, Cheyenne County, KS. The human remains were found in a home-made coffin located in a building that had recently been purchased by an individual. Cheyenne County Kansas Sheriff Cody Beeson was notified of the discovery, whereupon he, Undersheriff Rodriquez, KBI agent Mark Kendrick, Deputy Coroner Dr. Mary Beth Miller, and Melvin Coffer visited the site. Coffer suspected that the skeletal remains had been used in ceremonies performed by the Oddfellows. Sheriff Cody Beeson took possession of the human remains and contacted Robert J. Hoard, Kansas State Archeologist. At Hoard's request, on June 30, 2014, Sheriff Cody transferred the human remains to Hoard. They arrived at the Kansas State Historical Society on July 17, 2014. No known individual was identified. No associated funerary objects are present.

The human remains include the major parts of a human skeleton in fair condition, but evidence of weathering suggests the remains had been exposed to the open for an unknown period of time. Osteological analysis by Michael Finnegan, Ph.D., D-ABFA indicates the remains belong to a female, 35-40 years of age, and morphological attributes of the cranium and femur indicate Native American ancestry. Because of the weathering of the elements, it is believed that the human remains were originally left to decompose outside, possibly on a scaffold, or were buried and subsequently eroded out of the burial site, or were excavated. Officials of the Kansas State Historical Society have determined that this individual belonged to one of the Tribal Nations that are historically known to have been in present-day Cheyenne County, Kansas.

Determinations Made by the Kansas State Historical Society

Officials of the Kansas State Historical Society have determined that:

• Pursuant to 25 U.S.C. 3001(9), the human remains described in this notice represent the physical remains of one individual of Native American ancestry.

• Pursuant to 25 U.S.C. 3001(2), there is a relationship of shared group identity that can be reasonably traced between the Native American human remains and the Cheyenne and Arapaho Tribes, Oklahoma [previously listed as Cheyenne-Arapaho Tribes of Oklahoma].

Additional Requestors and Disposition

Lineal descendants or representatives of any Indian Tribe or Native Hawaiian organization not identified in this notice that wish to request transfer of control of these human remains should submit a written request with information in support of the request to Robert J. Hoard, Kansas State Historical Society, 6425 SW 6th Avenue, Topeka, KS 66615-1099, telephone (785) 272-8681 Ext. 269, email robert.hoard@ks.gov, by April 1, 2021. After that date, if no additional requestors have come forward, transfer of control of the human remains to the Cheyenne and Arapaho Tribes, Oklahoma [previously listed as Cheyenne-Arapaho Tribes of Oklahoma] may proceed.

The Kansas State Historical Society is responsible for notifying The Consulted Tribes that this notice has been published.

Dated: February 5, 2021.
Melanie O'Brien,
Manager, National NAGPRA Program.

[FR Doc. 2021-04256 Filed 3-1-21; 8:45 am]

BILLING CODE P